DEPARTMENT OF COMMERCE

National Oceanic and Atmospheric Administration

50 CFR Part 300

[Docket No. 220801-0167]

RIN 0648-XC401

International Fisheries; Pacific Tuna Fisheries; 2022 Commercial Pacific Bluefin Tuna Trip Limit in the Eastern Pacific Ocean

AGENCY: National Marine Fisheries Service (NMFS), National Oceanic and Atmospheric Administration (NOAA), Commerce.

ACTION: Temporary rule; inseason action.

SUMMARY: NMFS is announcing that the Pacific bluefin tuna (PBF) trip limit applicable to U.S. commercial fishing vessels in the eastern Pacific Ocean (EPO) is 3 metric tons (mt). This action is necessary to inform fishery participants of the trip limit established in a final rule published on August 5, 2022.

DATES: The rule is effective 12 a.m. local time September 19, 2022, through 11:59 p.m. local time December 31, 2022, or until the fishery is closed.

FOR FURTHER INFORMATION CONTACT: Celia Barroso, NMFS West Coast Region, 562-432-1850.

SUPPLEMENTARY INFORMATION: The United States is a member of the Inter-American Tropical Tuna Commission (IATTC), which was established under the Convention for the Establishment of an IATTC signed in 1949 (1949 Convention). The 1949 Convention provides an international agreement to ensure the effective international conservation and management of highly migratory species of fish in the IATTC Convention Area. In 2003, the IATTC updated the 1949 Convention through the adoption of the Convention for the Strengthening of the IATTC Established by the 1949 Convention between the United States of America and the Republic of Costa Rica (Antigua Convention). The IATTC Convention Area, as amended by the Antigua Convention, includes the waters of the EPO bounded by the coast of the Americas, the 50° N and 50° S parallels, and the 150° W meridian.

Fishing for Pacific bluefin tuna in the EPO is managed, in part, under the Tuna Conventions Act of 1950, as amended (Act), 16 U.S.C. 951 et seq. Under the Act, NMFS must publish regulations to carry out recommendations of the IATTC that have been approved by the Department of State. Regulations governing fishing by U.S. vessels in accordance with the Act appear at 50 CFR part 300, subpart C. These regulations implement IATTC recommendations for the conservation and management of highly migratory fish resources in the EPO.

On August 5, 2022, the National Marine Fisheries Service (NMFS) published a final rule (87 FR 47939) implementing IATTC Resolution C-21-05 (Measures for the Conservation and Management of Pacific Bluefin Tuna in the Eastern Pacific Ocean). This rule established catch and trip limits for PBF caught by U.S. commercial fishing vessels in the EPO for 2022-2024. In 2022, the catch limit is 523 mt. Under the rule, in 2022, the fishery is subject to an initial trip limit of 20 mt that reduces throughout the year as catch thresholds are met. Specifically, during July-September of 2022 when cumulative catches are estimated to reach 325 mt, the trip limit will be reduced to 3 mt. This 3 mt trip limit will remain in effect until cumulative catches reach 523 mt (i.e., the annual limit), at which time the fishery will be closed for the remainder of the calendar year.

Based on landings data and other information available as of September 14, 2022, preliminary estimates indicate that 262 mt of PBF has been caught by U.S. commercial vessels and NMFS estimates that 325 mt will be caught by publication of this notice. Therefore, in accordance with 50 CFR 300.25(g)(3)(ii), a 3 mt trip limit will be applied to the U.S. commercial fishing vessels in the EPO until the next threshold to reduce the trip limit is met or until the fishery is closed. Notice of this inseason action that reduces the trip limit has also been posted on the NMFS website: https://www.fisheries.noaa.gov/west-coast/sustainable-fisheries/pacific-bluefin-tuna-commercial-harvest-status.

Classification

NOAA's Assistant Administrator (AA) for NMFS finds that good cause exists for this notification to be issued without affording prior notice and opportunity for public comment under 5 U.S.C. 553(b)(B) because such notification would be impracticable and contrary to the public interest. This action complies with the requirements of the management measures for the commercial Pacific bluefin tuna fishery (87 FR 47939, August 5, 2022) and implementing regulations under 50 CFR 300.25. Prior notice and opportunity for public comment was impracticable and contrary to the public interest because NMFS had insufficient time to provide for prior notice and the opportunity for public comment between the time catch was estimated and the time the fishery modifications had to be implemented in order to ensure that the thresholds to reduce trip limits in accordance with 50 CFR 300.25 were not exceeded. Delaying the action to engage in notice-and-comment rulemaking would prevent NMFS from lowering the trip limit as contemplated under current management measures, which are intended to ensure the U.S. fleet does not exceed its annual catch limit and thereby does not contribute to overharvest of the stock. As previously noted, notification of the regulatory action was also provided to fishermen through posting on the NMFS website. The AA also finds good cause to waive the 30-day delay in effectiveness required under 5 U.S.C. 553(d)(3), as a delay in effectiveness of this action would allow fishing at levels inconsistent with the goals of the current management measures.

This action is exempt from review under Executive Order 12866.

Authority: 16 U.S.C. 951 et seq.

Dated: September 16, 2022.
Jennifer M. Wallace,
Acting Director, Office of Sustainable Fisheries, National Marine Fisheries Service.

[FR Doc. 2022-20487 Filed 9-19-22; 4:15 pm]

BILLING CODE 3510-22-P